FEDERAL COMMUNICATIONS COMMISSION

[WC Docket No. 02-237; DA 06-1447]

Qwest Petition for Clarification of Verizon Physical Collocation Discontinuance Order

AGENCY: Federal Communications Commission.

ACTION: Notice; termination of proceeding.

SUMMARY: This document is a notification of final termination of Qwest's petition for clarification of a 2003 Commission order, which granted Verizon authority to discontinue providing federally-tariffed physical collocation services pursuant to section 201 of the Communications Act. The petition for clarification has been withdrawn by the petitioner. No oppositions to the prior notice of termination were received; therefore, interested parties are hereby notified that this proceeding has been terminated.

DATES: This proceeding was terminated effective June 30, 2006.

FOR FURTHER INFORMATION CONTACT: Jennifer McKee, Wireline Competition Bureau, Pricing Policy Division, (202) 418-1530.

SUPPLEMENTARY INFORMATION: On May 19, 2006, the Wireline Competition Bureau's Pricing Policy Division issued a Public Notice in the above-listed proceeding stating that the proceeding would be terminated effective 30 days after publication of the Public Notice in the Federal Register, unless the Bureau received an opposition to the termination before that date. The notice was published in the Federal Register on May 31, 2006. 71 FR 30926, May 31, 2006. The Bureau did not receive any oppositions to the termination of this proceeding within 30 days of Federal Register publication of the notice; therefore, the above-listed proceeding was terminated as of June 30, 2006.

Federal Communications Commission.
Thomas J. Navin,
Chief, Wireline Competition Bureau.

[FR Doc. E6-11905 Filed 7-25-06; 8:45 am]

BILLING CODE 6712-01-P